DEPARTMENT OF HEALTH AND HUMAN SERVICES

National Committee on Vital and Health Statistics: Meeting

Pursuant to the Federal Advisory Committee Act, the Department of Health and Human Services (HHS) announces the following advisory committee meeting.

Name: National Committee on Vital and Health Statistics (NCVHS), Standards Subcommittee Meeting.

Date and Times: Tuesday, July 17, 2018: 9:00 a.m.-5:00 p.m. (EDT), Wednesday, July 18, 2018: 8:30 a.m.-3:00 p.m. (EDT)

Place: U.S. Department of Health and Human Services, Hubert H. Humphrey Building, 200 Independence Avenue SW, Rm. 705A, Washington, DC 20201.

Status: Open. There will be three opportunities for public comment during the meeting: At the end of the first day, at the end of the morning of the second day, and prior to the meeting close on the second day.

Purpose: The NCVHS Charter stipulates that the Committee study the issues related to the adoption of uniform data standards for patient medical record information and the electronic exchange of such information and report to the Secretary of Health and Human Services (HHS) with recommendations and legislative proposals for such standards and electronic exchange. NCVHS also is charged with advising HHS on health data collection needs and strategies, and reviewing and monitoring the Department's data and information systems to identify needs, opportunities, and problems.

In this regard, NCVHS is taking a contemporary look at the health terminology and vocabulary landscape in order to advise the HHS Secretary regarding: (1) The changing environment and implications for timing and approach to health terminology and vocabulary standards adoption; (2) Needs, opportunities, and problems with development, dissemination, maintenance, and adoption of health terminology and vocabulary standards; and (3) Actions that HHS might take to improve development, dissemination, maintenance, and adoption of standards.

NCVHS is holding an expert roundtable meeting, in conjunction with the National Library of Medicine (NLM) in order to: (1) Assess strengths, weaknesses and gaps in the U.S. health terminology and vocabulary (T/V) environment; (2) Consider areas for near term improvement in the development, maintenance, dissemination and adoption of named code sets; (3) Discuss opportunities for improved governance, coordination and communication across terminology and vocabulary developers and their stakeholders; (4) Identify top priority gaps in the U.S. health terminology and vocabulary coverage; and (5) Envision a roadmap for introducing improvements over the next decade. Invited experts will have the opportunity to provide extensive input to the subcommittee as it studies these questions and finalizes an Environmental Scan report of the current state of the U.S. health terminology and vocabulary (T/V) environment.

The times and topics for this meeting are subject to change. Please refer to the posted agenda for any updates.

Contact Persons for More Information: Substantive program information may be obtained from Rebecca Hines, MHS, Executive Secretary, NCVHS, National Center for Health Statistics, Centers for Disease Control and Prevention, 3311 Toledo Road, Hyattsville, Maryland 20782, telephone (301) 458-4715. Information pertaining to meeting content may be obtained from Vivian Auld, National Institutes of Health, National Library of Medicine, 8600 Rockville Pike, Bethesda, Maryland, 20894-3833, telephone (301) 496-7974. Summaries of meetings and a roster of Committee members are available on the NCVHS website: www.ncvhs.hhs.gov, where further information including a meeting agenda and instructions to access the live audio broadcast of the meeting will be posted.

Should you require reasonable accommodation, please contact the CDC Office of Equal Employment Opportunity on (770) 488-3210 as soon as possible.

Dated: June 14, 2018.
Laina Bush,
Deputy Assistant Secretary for Planning and Evaluation, Office of the Assistant Secretary for Planning and Evaluation.

[FR Doc. 2018-13179 Filed 6-19-18; 8:45 am]

BILLING CODE 4151-05-P